DEPARTMENT OF THE INTERIOR

Fish and Wildlife Service

50 CFR Part 17

[Docket No. FWS-R4-ES-2014-0054; FXES11130900000C2-167-FF09E32000]

RIN 1018-BA46

Endangered and Threatened Wildlife and Plants; Removal of Solidago albopilosa (White-Haired Goldenrod) From the Federal List of Endangered and Threatened Plants

AGENCY: Fish and Wildlife Service, Interior.

ACTION: Proposed rule; reopening of comment period.

SUMMARY: We, the U.S. Fish and Wildlife Service (Service), announce the reopening of the comment period on our September 1, 2015, proposed rule to remove the plant Solidago albopilosa (white-haired goldenrod) from the Federal List of Endangered and Threatened Plants. We are reopening the comment period for 30 days in order to conduct peer review and provide interested parties an additional opportunity to comment on the proposed rule and draft post delisting monitoring plan. Comments previously submitted need not be resubmitted, as they will be fully considered in preparation of the final listing determination.

DATES: To allow us adequate time to consider your comments on the proposed rule, we must receive your comments on or before March 28, 2016.

ADDRESSES: Written comments: You may submit comments on the proposed rule and draft post-delisting monitoring plan by one of the following methods:

• Federal eRulemaking Portal: Go to the Federal eRulemaking Portal: http://www.regulations.gov. In the Search box, enter the docket number for the proposed rule, which is FWS-R4-ES-2014-0054. Then click on the Search button. On the resulting page, you may submit a comment by clicking on “Comment Now!” Please ensure that you have found the correct rulemaking before submitting your comment.

• By U.S. mail or hand-delivery: Public Comments Processing, Attn: Docket No. FWS-R4-ES-2014-0054, U.S. Fish and Wildlife Service, MS BPHC, 5275 Leesburg Pike, Falls Church, VA 22041-3803.

We request that you send comments only by the methods described above. We will post all comments on http://www.regulations.gov. This generally means that we will post any personal information you provide us (see SUPPLEMENTARY INFORMATION for more information).

Document availability: Comments and materials we receive, as well as supporting documentation we used in preparing the proposed rule, will be available for public inspection on http://www.regulations.gov under Docket No. FWS-R4-ES-2014-0054. A copy of the draft post-delisting monitoring plan can be viewed at http://www.regulations.gov under Docket No. FWS-R4-ES-2014-0054, or at the Kentucky Ecological Services Field Office's Web site at http://www.fws.gov/frankfort/.

FOR FURTHER INFORMATION CONTACT: Virgil Lee Andrews, Jr., Field Supervisor, U.S. Fish and Wildlife Service, Kentucky Ecological Services Field Office, 330 West Broadway, Suite 265, Frankfort, KY 40601; telephone (502) 695-0468. Individuals who are hearing-impaired or speech-impaired may call the Federal Information Relay Service at (800) 877-8339 for TTY assistance 24 hours a day, 7 days a week.

SUPPLEMENTARY INFORMATION: On September 1, 2015, we published a proposed rule (80 FR 52717) to remove the plant Solidago albopilosa (white-haired goldenrod) from the Federal List of Endangered and Threatened Plants based on a thorough review of the best available scientific and commercial data, which indicate that this species has recovered and no longer meets the definition of an endangered or a threatened species under the Endangered Species Act of 1973, as amended (16 U.S.C. 1531 et seq.). We sought information, data, and comments from the public regarding the proposal and the associated draft post-delisting monitoring plan for 60 days, ending November 2, 2015. We are reopening the comment period on that proposed rule and the associated draft post-delisting monitoring plan for an additional 30 days (see DATES). We will accept written comments and information during this reopened comment period. We are specifically soliciting comments from peer reviewers (see Peer Review, below), but we are providing all interested parties with this additional time to submit information. Please refer to the proposed rule for more information on our proposed action and the specific information we seek.

You may submit your comments and materials concerning the proposed rule or the associated draft post-delisting monitoring plan by one of the methods listed in ADDRESSES. Before including your address, phone number, email address, or other personal identifying information in your comment, you should be aware that your entire comment—including your personal identifying information—may be made publicly available at any time. All comments and recommendations, including names and addresses, will become part of the administrative record.

If you submit information via http://www.regulations.gov, your entire comment—including any personal identifying information—will be posted on the Web site. While you can ask us in your comment to withhold your personal identifying information from public review, we cannot guarantee that we will be able to do so.

If you mail or hand-deliver a hardcopy comment that includes personal identifying information, you may request at the top of your document that we withhold this information from public review, but we cannot guarantee that we will be able to do so. To ensure that the electronic docket for this rulemaking is complete and all comments we receive are publicly available, we will post all hardcopy submissions on http://www.regulations.gov.

Peer Review

In accordance with our policy published in the Federal Register on July 1, 1994 (59 FR 34270), and the OMB's Final Information Quality Bulletin for Peer Review, dated December 16, 2004, we are soliciting the expert opinions of at least three appropriate and independent specialists regarding the science in our proposed rule published on September 1, 2015 (80 FR 52717), and the associated draft post-delisting monitoring plan. The purpose of such review is to ensure that we base our decisions on scientifically sound data, assumptions, and analyses. We are sending peer reviewers copies of the proposed rule and the draft post-delisting monitoring plan. We are inviting peer reviewers to comment, during this reopened public comment period, on the specific assumptions and conclusions regarding the proposed delisting and draft post-delisting monitoring plan. We will summarize the opinions of these reviewers in the final decision documents, and we will consider their input and any additional information we receive as part of our process of making a final decision on the proposal and the draft post-delisting monitoring plan. Such communication may lead to a final decision that differs from the proposal.

Dated: February 17, 2016.
Stephen Guertin,
Acting Director, U.S. Fish and Wildlife Service.

[FR Doc. 2016-04095 Filed 2-25-16; 8:45 am]

BILLING CODE 4333-15-P